NATIONAL ARCHIVES AND RECORDS ADMINISTRATION

[NARA-2015-003]

National Archives Digitization Strategy; Request for Comments

AGENCY: National Archives and Records Administration (NARA).

ACTION: Notice of proposed revisions to the National Archives Digitization Strategy.

SUMMARY: The National Archives and Records Administration (NARA) is revising our digitization strategy and we are soliciting public comments on the proposed draft. You may access the draft strategy document at http://www.archives.gov/digitization/strategy.html.

NARA identifies, preserves, and provides access to the Federal Government's vast holdings of over 12 billion pages of archival materials, the majority of which currently exist only in analog or paper form. We previously issued a digitization strategy in May 2008, and it helped facilitate public access to more than 230 million digital images of analog records. We're proposing changes to that strategy to enable more digitization going forward.

DATES: Submit comments on or before November 17, 2014 to be assured of consideration.

ADDRESSES: Send comments by email to digitization@nara.gov, regulations_comments@nara.gov, or post comments on the NARA blog post at http://blogs.archives.gov/online-public-access/?p=9283.

FOR FURTHER INFORMATION CONTACT: For information on NARA's digitization strategy, contact Markus Most by telephone at 301-837-1643, by email at Markus.Most@nara.gov, or by mail to Markus Most, Digitization Division Director, Office of Innovation, Room 3200; National Archives and Records Administration; 8601 Adelphi Rd; College Park, MD 20740. For information on this notice, contact Kimberly Keravuori by email at regulation_comments@nara.gov, or by mail to Kimberly Keravuori, Regulatory Program Manager, Strategy Division; National Archives and Records Administration; Suite 4100; 8601 Adelphi Road; College Park, MD 20740.

SUPPLEMENTARY INFORMATION: NARA is updating its digitization strategy, last issued in 2008, for several reasons. Since 2008, there have been rapid developments in areas of technology and collaboration that have changed the landscape of what is possible, expanding our options for collaboration with other organizations and for faster or more accessible digitization techniques for sometimes-delicate archival documents. These developments have also changed how people make use of documents and information, and their expectations about how they should be able to access them. In recognition of these changes and the need to make even more of NARA's vast and diverse range of permanent records available to people across the country, we issued a new agency Strategic Plan in March 2014, with an even greater emphasis on digitization. As a result of the rapid developments, changes in peoples' use and access expectations, and NARA's increased emphasis on digitization, we need to revise the 2008 digitization strategy. The proposed revisions signal key shifts in approach to digitization at NARA, including expansion of the variety and types of partnerships with institutions and organizations, greater emphasis on public access throughout internal agency digitization work processes, and promotion of public engagement in the digitization of NARA records. We welcome your comments on the proposed strategy.

Dated: October 9, 2014.
David S. Ferriero,
Archivist of the United States.

[FR Doc. 2014-24595 Filed 10-15-14; 8:45 am]

BILLING CODE 7515-01-P